DEPARTMENT OF COMMERCE

Foreign-Trade Zones Board

[Order No. 2149]

Reorganization and Expansion of Foreign-Trade Zone 255 Under Alternative Site Framework; Washington County, Maryland

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the Board of County Commissioners of Washington County, grantee of Foreign-Trade Zone 255, submitted an application to the Board (FTZ Docket B-27-2023, docketed April 13, 2023) for authority to reorganize and expand under the ASF with a service area of Washington County, Maryland, adjacent to the Baltimore Customs and Border Protection port of entry, FTZ 255's existing Sites 1, 2, 4, 6 and 7 would be categorized as magnet sites, and the grantee proposes one initial subzone (Subzone 255A);

Whereas, notice inviting public comment was given in the Federal Register (88 FR 24161-24162, April 19, 2023) and the application has been processed pursuant to the FTZ Act and the Board's regulations; and,

Whereas, the Board adopts the findings and recommendations of the examiners' report, and finds that the requirements of the FTZ Act and the Board's regulations are satisfied;

Now, therefore, the Board hereby orders:

The application to reorganize and expand FTZ 255 under the ASF is approved, subject to the FTZ Act and the Board's regulations, including section 400.13, to the Board's standard 2,000-acre activation limit for the zone, to an ASF sunset provision for magnet sites that would terminate authority for Sites 1, 4, 6 and 7 if not activated within five years from the month of approval, and to an ASF sunset provision for subzones that would terminate authority for Subzone 255A if no foreign-status merchandise is admitted for a bona fide customs purpose within three years from the month of approval.

Dated: October 24, 2023.
Lisa W. Wang,
Assistant Secretary for Enforcement and Compliance, Alternate Chairman, Foreign-Trade Zones Board.

[FR Doc. 2023-23851 Filed 10-27-23; 8:45 am]

BILLING CODE 3510-DS-P